DEPARTMENT OF THE TREASURY

United States Mint

2020 Pricing of Numismatic Gold, Commemorative Gold, Platinum, and Palladium Products Grid

AGENCY: United States Mint, Department of the Treasury.

ACTION: Notice.

SUMMARY: The United States Mint announces 2020 revisions to include price increases for the American Eagle Gold Proof Coin, American Eagle Gold Uncirculated Coin, American Buffalo Gold Proof Coin, American Eagle Palladium Coin, American Liberty Gold Coin, and commemorative proof and uncirculated gold coin products within the Pricing of Numismatic Gold, Commemorative Gold, Platinum, and Palladium Products Grid.

FOR FURTHER INFORMATION CONTACT: Cathy Olson; Sales and Marketing Directorate; United States Mint; 801 9th Street NW, Washington, DC 20220; or call 202-354-7500.

SUPPLEMENTARY INFORMATION: An excerpt of the grid with a recent price range for the American Eagle Gold Proof coins appears below:

The complete 2020 Pricing of Numismatic Gold, Commemorative Gold, Platinum, and Palladium Products Grid will be available at https://catalog.usmint.gov/coin-programs/american-eagle-coins.

Pricing can vary weekly dependent upon the London Bullion Market Association gold, platinum, and palladium prices weekly average. The pricing for all United States Mint numismatic gold, platinum, and palladium products is evaluated every Wednesday and modified as necessary.

Authority: 31 U.S.C. 5111, 5112, & 9701.

Dated: March 12, 2020.
David J. Ryder,
Director, United States Mint.

[FR Doc. 2020-05604 Filed 3-17-20; 8:45 am]

BILLING CODE P